DEPARTMENT OF ENERGY

Federal Energy Regulatory Commission

[Docket No. GT02-38-000]

Northern Natural Gas Company; Notice of Proposed Changes in FERC Gas Tariff

August 28, 2002.

Take notice that on August 23, 2002, Northern Natural Gas Company (Northern) tendered for filing to become part of Northern's FERC Gas Tariff, Fifth Revised Volume No. 1, Second Revised Sheet No. 284, Third Revised Sheet No. 285, Original Sheet No. 285A, and Fifth Revised Sheet No. 289 to be effective on September 23, 2002.

Northern is hereby updating and clarifying Section 46 (Creditworthiness) and Section 47 (Capacity Release) of its tariff due to increased rating agency downgrades to many energy companies over the past twelve months. Such modifications are intended to ensure that Northern and its shippers are adequately protected against the potential for shipper default in order to minimize potential exposure.

Northern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22475 Filed 9-3-02; 8:45 am]

BILLING CODE 6717-01-P